DEPARTMENT OF ENERGY

Energy Information Administration

Policy Statement; Energy Information Administration Policy for Release of the Weekly Petroleum Status Report; Comment Request

AGENCY: Energy Information Administration (EIA), Department of Energy (DOE).

ACTION: Policy statement. Energy Information Administration Policy for release of the weekly petroleum status report; comment request.

SUMMARY: The Energy Information Administration (EIA) is soliciting comments on a proposed change in the policy for the release time of EIA's Weekly Petroleum Status Report (WPSR). Under the proposed policy, the release time would be changed to coincide with normal New York Mercantile Exchange (NYMEX) and International Petroleum Exchange (IPE) trading hours.

DATES: Comments must be filed by January 2, 2003. If you anticipate difficulty in submitting comments within that period, contact the person listed below as soon as possible.

ADDRESSES: Send comments to Ronald W. O'Neill. To ensure receipt of the comments by the due date, submission by FAX (202-586-5846) or e-mail (ron.oneill@eia.doe.gov) is recommended. The mailing address is Ronald W. O'Neill, M.S. EI-42, Forrestal Building, U.S. Department of Energy, Washington, DC 20585-0640. Alternatively, Mr. O'Neill may be contacted by telephone at (202) 586-2991.

FOR FURTHER INFORMATION CONTACT: Requests for additional information should be directed to Ronald W. O'Neill at the address above. The WPSR is available on EIA's Internet site at http://www.eia.doe.gov/oil_gas/petroleum/data_publications/weekly_petroleum_status_report/wpsr.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) requires that EIA carry out a centralized, comprehensive, and unified energy information program. This program collects, evaluates, assembles, analyzes, and disseminates information on energy resource reserves, production, demand, technology, and related economic and statistical information. This information is used to assess the adequacy of energy resources to meet near and long term domestic demands.

EIA provides the public and other Federal agencies with opportunities to comment on collections of energy information conducted by EIA. As appropriate, EIA also requests comments on important issues relevant to EIA's dissemination of energy information. Comments received help EIA when preparing information collections and information products necessary to EIA's mission.

EIA's Weekly Petroleum Status Report (WPSR) provides timely information on supply and selected prices of crude oil and principal petroleum products. It serves the industry, the press, planners, policymakers, consumers, analysts, and State and local governments with a ready, reliable source of current information.

II. Current Actions

The WPSR data are based primarily on weekly company submissions of information as of 7 a.m. Eastern Standard Time (EST) Friday. Weekly data are filed with EIA by 5 p.m. EST on the following Monday. Currently, the WPSR data are publicly released electronically at 9 a.m. each Wednesday, and the printed version is available on Friday. For weeks that include holidays, release of the WPSR may be delayed by one day.

The American Petroleum Institute (API) has released its version of the same data about 5 p.m. on Tuesday. As a result, the API release was the most closely watched and had the greatest impact on petroleum markets. More significantly, the Tuesday night release occurred when all major petroleum trading markets were closed. The API recently announced that, starting January 8, 2003, they would begin releasing their weekly data at 9 a.m. on Wednesdays.

With market focus now turning to both EIA and API data, EIA is soliciting public opinion on the best or most beneficial release time for the data. To the extent that the weekly supply data reflect current market conditions, and thereby facilitate market efficiency, EIA is considering moving its release time to 10:10 a.m. on Wednesday to coincide with normal NYMEX and IPE trading hours. However, public opinion is sought on alternative times as well.

III. Request for Comments

The public should comment on the actions discussed in item II concerning the proposed policy change in the WPSR release schedule.

Comments submitted in response to this notice will be considered during final development of EIA's policy for scheduled releases of the WPSR. The comments will also become a matter of public record. After EIA has considered any comments and developed the final WPSR release policy, a Federal Register notice will be issued announcing the policy.

Statutory Authority: Section 52 of the Federal Energy Administration Act (Pub. L. No. 93-275, 15 U.S.C. 790a).

Issued in Washington, DC, November 27, 2002.
Jay H. Casselberry,
Agency Clearance Officer, Statistics and Methods Group, Energy Information Administration.

[FR Doc. 02-30563 Filed 12-2-02; 8:45 am]

BILLING CODE 6450-01-P